COMMISSION ON CIVIL RIGHTS

Sunshine Act Meeting Notice

AGENCY: United States Commission on Civil Rights.

ACTION: Notice of Commission public briefing, The Civil Rights Implications of Cash Bail, notice of Commission business meeting, and call for public comments.

DATES: Friday, February 26, 2021, 10:00 a.m. ET.

ADDRESSES: Virtual Briefing and Business Meeting.

FOR FURTHER INFORMATION CONTACT: Angelia Rorison (202) 376-8359; TTY: (202) 376-8116; publicaffairs@usccr.gov.

SUPPLEMENTARY INFORMATION: On Friday, February 26, 2021, at 10:00 a.m. Eastern Time, the U.S. Commission on Civil Rights will hold a virtual briefing regarding the state of bail and pretrial detention practices, including the involvement of the private bail industry, various mechanisms for reform, and the potential regulatory role of the federal government. The briefing will examine how cash bail impacts the fair administration of justice and whether it operates in a manner that denies equal protection of the law to individuals on the basis of race or another protected class. At this public briefing, Commissioners will hear from subject matter experts such as government officials, academics, law enforcement professionals, advocates, and impacted persons.

This briefing is open to the public via Weblink. The event will live-stream at https://www.youtube.com/user/USCCR/videos. (Streaming information subject to change.) Public participation is available for the event with view access, along with an audio option for listening.

Computer assisted real-time transcription (CART) will be provided. The web link to access CART (in English) on Friday, February 26, 2021, is https://www.streamtext.net/player?event=USCCR. Please note that CART is text-only translation that occurs in real time during the meeting and is not an exact transcript.

To request additional accommodations, persons with disabilities should email access@usccr.gov by Monday, February 15, 2021 indicating “accommodations” in the subject line.

Briefing Agenda for The Civil Rights Implications of Cash Bail: 10:00 a.m.-1:40 p.m. All Times Eastern Time

I. Introductory Remarks: 10:00-10:05 a.m.

II. Panel 1: Foundations: 10:05-11:05 a.m.

III. Break: 11:05-11:20 a.m.

IV. Panel 2: Criminal Justice Stakeholders: 11:20 a.m.-12:20 p.m.

V. Break: 12:20-12:35 p.m.

VI. Panel 3: Reforms: 12:35-1:40 p.m.

VII. Closing Remarks: 1:25-1:30 p.m.

VI. Adjourn Meeting

**Public Comments will be accepted through written testimony.

Schedule is subject to change.

Call for Public Comments

In addition to the testimony collected on Friday, February 26, 2021, via virtual briefing, the Commission welcomes the submission of material for consideration as we prepare our report. Please submit such information to bailreform@usccr.gov no later than March 26, 2021, or by mail to OCRE/Public Comments, ATTN: Bail Reform, U.S. Commission on Civil Rights, 1331 Pennsylvania Ave. NW, Suite 1150, Washington, DC 20425. The Commission encourages the use of email to provide public comments due to the current COVID-19 pandemic.

Dated: February 8, 2021.
Angelia Rorison,
Media and Communications Director, U.S. Commission on Civil Rights.

[FR Doc. 2021-02819 Filed 2-8-21; 11:15 am]

BILLING CODE 6335-01-P